DEPARTMENT OF THE INTERIOR

Bureau of Indian Affairs

[156A2100DD/AAKC001030/A0A501010.999900 253G]

Indian Gaming

AGENCY: Bureau of Indian Affairs, Interior.

ACTION: Notice of Tribal-State Class III Gaming Compacts taking effect.

SUMMARY: This notice publishes the Indian Gaming Compacts between the State of New Mexico and the Jicarilla Apache Nation, Mescalero Apache Tribe of the Mescalero Reservation, Navajo Nation, Pueblo of Acoma, and Pueblo of Jemez governing Class III gaming (Compacts) taking effect.

DATES: Effective June 22, 2015.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by 25 CFR § 293.4, all compacts are subject to review and approval by the Secretary. The Secretary took no action on the Compacts within 45 days of their submission. Therefore, the Compacts are considered to have been approved, but only to the extent the Compacts are consistent with IGRA. See 25 U.S.C. 2710(d)(8)(C).

Dated: June 16, 2015.
Kevin K. Washburn,
Assistant Secretary—Indian Affairs.

[FR Doc. 2015-15207 Filed 6-19-15; 8:45 am]

BILLING CODE 4337-15-P